DEPARTMENT OF JUSTICE

Notice of Lodging of Consent Decree Under Comprehensive Environmental Response, Compensation and Liability Act

Under 28 CFR 50.7, notice is hereby given that on March 29, 2004, a proposed Consent Judgment in United States v. Coltec Industries, Inc., et. al., Civil Action No. 04-1308, was lodged with the United States District Court for the Eastern District of New York.

The proposed Consent Judgment resolves cost recovery claims of the United States, on behalf of the U.S. Environmental Protection Agency, under the Comprehensive Environmental Response, Compensation, and Liability Act (“CERCLA”), 42 U.S.C. 9601 et seq., in connection with the Liberty Industrial Finishing Superfund Site in Oyster Bay, New York (“Site”), against Coltec Industries, Inc.; Goodrich Corporation; 55 Motor Avenue LLC; Cubbies Properties, Inc.; Jefry Rosmarin; J. Jay Tanenbaum; Jan Burman; Jerome Lazarus; Liberty Associates; William Heller; Koch-Glitsch, LP; and Beazer East, Inc. The proposed Consent Judgment also resolves potential contribution claims against the United States pursuant to sections 107(a) and 113(f) of CERCLA, 42 U.S.C. 9607(a) and 9613(f). The proposed Consent Judgment requires the twelve defendants to perform and fund the cleanup of the Site (estimated at $32.8 million). The United States, on behalf of two Settling Federal Agencies, the Department of Defense and the General Services Administration, will pay about 41.5 percent of the costs to be incurred in performing the remedy, which will amount to between $13.5 million and $17.6 million, depending on total cost of the remedy. The proposed Consent Judgment provides that the twelve defendants and the Settling Federal Agencies are entitled to contribution protection as provided by section 113(f)(2) of CERCLA, 42 U.S.C. 9613(f)(2) for matters addressed by the settlement.

The Department of Justice will receive for a period of thirty (30) days from the date of this publication comments relating to the proposed Consent Judgment. Comments should be addressed to the Assistant Attorney General of the Environment and Natural Resources Division, Department of Justice, Washington, DC 20530, and should refer to United States v. Coltec Industries, Inc. et al., Civil Action No. 04-1308, D.J. Ref. 90-11-2-1222/90-11-3-766.

The proposed Consent Judgment may be examined at the Office of the United States Attorney, Eastern District of New York, One Pierrepont Plaza, 14th Fl., Brooklyn, New York 11201, and at the United States Environmental Protection Agency, Region II, 290 Broadway, New York, New York 10007-1866. During the public comment period, the proposed Consent Judgment may also be examined on the following Department of Justice Web site, http://www.usdoj.gov/enrd/open.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed Consent Judgment, please enclose a check in the amount of $49.00 (25 cent per page reproduction cost) payable to the U.S. Treasury.

Ronald Gluck,
Assistant Section Chief, Environmental Enforcement Section, Environment and Natural Resources Division.

[FR Doc. 04-8472 Filed 4-13-04; 8:45 am]

BILLING CODE 4410-13-M